DEPARTMENT OF THE INTERIOR

Bureau of Reclamation

Environmental Water Account

AGENCY: Bureau of Reclamation, Interior.

ACTION: Notice of Availability of Draft Environmental Impact DES 03-40 Statement/Environmental Impact Report (EIS/EIR) and notice of public workshops and public hearings.

SUMMARY: The Bureau of Reclamation (Reclamation), the National Environmental Policy Act (NEPA) Federal lead agency; and the California Department of Water Resources (DWR), the California Environmental Quality Act (CEQA) State lead agency; along with the U.S. Fish and Wildlife Service (FWS) and National Marine Fisheries Service (NOAA Fisheries), Federal Cooperating Agencies; and the California Department of Fish and Game (DFG), State Responsible Agency, have made available for public review and comment the Draft EIS/EIR for the CALFED Environmental Water Account (EWA).

The EWA addresses fish protection and recovery in the San Francisco Bay/Sacramento-San Joaquin Delta while at the same time improving water supply reliability for Central Valley Project (CVP) and State Water Project (SWP) customers. The CVP and SWP facilities that pump water from the Delta can entrain and kill fish, some of which are Federally and State listed species. Reductions in CVP and SWP pumping to protect these fish species can reduce water supply reliability. The EWA involves environmentally beneficial changes in operations of the CVP and SWP for Delta dependent native fish species, and acquires and manages water assets to pay back the water foregone by the CVP and SWP, assuring no uncompensated water cost to the projects' water users. Reclamation, DWR, FWS, NOAA Fisheries, and DFG collectively manage EWA assets and recommend operational changes to the CVP and SWP facilities. FWS, NOAA Fisheries, and DFG are responsible for recommending actions that protect and benefit Delta dependent fish populations. Reclamation and DWR are responsible for acquiring water assets from willing sellers and storing, conveying, and delivering the assets to the projects at appropriate times and locations to assure no uncompensated water cost to the projects' water users.

DATES: Submit written comments on the Draft EIS/EIR on or before September 15, 2003.

Public workshops will be held to discuss the purpose and content of the Draft EIS/EIR. The public workshops will be held as follows:

• Wednesday, July 16, 2003, 6 p.m., San Diego, CA.

• Monday, July 21, 2003, 6 p.m., Red Bluff, CA.

• Tuesday, July 22, 2003, 6 p.m., Fresno, CA.

• Wednesday, July 23, 2003, 6 p.m., Tracy, CA.

• Tuesday, July 29, 2003, 10 a.m., Sacramento, CA.

Public hearings will be held to provide the public an opportunity to orally comment on the Draft EIS/EIR. Written comments will also be accepted at the public hearing. The public hearings will be held as follows:

• Monday, August 25, 2003, 10 a.m., Sacramento, CA.

• Tuesday, August 26, 2003, 6 p.m., Red Bluff, CA.

• Thursday, August 28, 2003, 6 p.m., Fresno, CA.

ADDRESSES: Public workshops will be held at the following locations:

• San Diego, CA—Hyatt Regency Islandia, 1441 Quivira Road.

• Red Bluff, CA—Community and Senior Center, 1500 South Jackson Road.

• Fresno, CA—Ramada Inn Shaw, 324 East Shaw, Ballroom Shaw A.

• Tracy, CA—VFW, 430 West Grand Line Road.

• Sacramento, CA—Best Western Expo Inn, 1413 Howe Avenue, Expo Room.

Public hearings will be held at the following locations:

• Sacramento, CA—Best Western Expo Inn, 1413 Howe Avenue, Expo Room.

• Red Bluff, CA—Community and Senior Center, 1500 South Jackson Road.

• Fresno, CA—Ramada Inn Shaw, 324 East Shaw, Ballroom Shaw C.

Written comments on the Draft EIS/EIR should be addressed to Ms. Sandy Osborn, Bureau of Reclamation, 2800 Cottage Way MP-720, Sacramento, CA 95825 and Ms. Delores Brown, Department of Water Resources, 3251 “S” Street, Sacramento, CA 95816.

Copies of the Draft EIS/EIR may be requested from Ms. Sammie Cervantes, Bureau of Reclamation, 2800 Cottage Way, Sacramento, CA 95825, or by calling 916-978-5104, TDD 916-978-5608, or scervantes@mp.usbr.gov. The Draft EIS/EIR is accessible from the following Web sites: http://www.mp.usbr.gov or http://www.dwr.water.ca.gov. See Supplementary Information section for locations where copies of the Draft EIS/EIR are available for public review.

FOR FURTHER INFORMATION CONTACT: Ms. Sandy Osborn, Bureau of Reclamation, at 916-978-5129, TDD 916-978-5608, e-mail: sosborn@mp.usbr.gov; or Ms. Delores Brown, DWR, at 916-227-2407, e-mail: delores@water.ca.gov.

SUPPLEMENTARY INFORMATION: This EIS/EIR addresses implementation of the EWA as provided in the CALFED Programmatic EIS/EIR Record of Decision. The Draft EIS/EIR analyzes the direct, indirect, and cumulative effects on the physical, natural, and socioeconomic environment that may result from the purchase, storage, and conveyance of EWA assets, and the actions taken by the EWA to benefit fish populations. The EWA is designed to minimize adverse environmental effects, and the EIS/EIR proposes mitigation measures to offset unavoidable impacts. Resources analyzed in the EIS/EIR include water supply, power, air quality, aquatic and terrestrial wildlife, water quality, recreation, cultural resources, aesthetics, and socioeconomics, Indian Trust Assets, and environmental justice.

Copies of the Draft EIS/EIR are available for public review at the following locations:

• Department of Water Resources, Division of Environmental Services, 3251 S Street, Sacramento, CA 95816.

• Bureau of Reclamation, Public Affairs Office, 2800 Cottage Way, Sacramento, CA 95825.

• California Bay-Delta Authority, 650 Capitol Mall, 5th Floor, Sacramento, CA 95812.

• Bureau of Reclamation, Denver Office Library, Building 67, Room 167, Denver Federal Center, 6th and Kipling, Denver, Colorado 80225, 303-445-2072.

• Natural Resources Library, U.S. Department of the Interior, 1849 C Street, NW., Main Interior Building, Washington, DC 20240-0001.

• At various county libraries, contact Sammie Cervantes at 916-978-5104, TDD 916-978-5608, for specific locations.

Oral and written comments, including names and home addresses of respondents, will be made available for public review. Individual respondents may request that their home address be withheld from public disclosure, which will be honored to the extent allowable by law. There may be circumstances in which respondents' identity may also be withheld from public disclosure, as allowable by law. If you wish to have your name and/or address withheld, you must state this prominently at the beginning of your comment. All submissions from organizations or businesses, and from individuals identifying themselves as representatives or officials of organizations or businesses, will be made available for public disclosure in their entirety.

Dated: June 10, 2003.
Kirk C. Rodgers,
Regional Director, Mid-Pacific Region.

[FR Doc. 03-18045 Filed 7-15-03; 8:45 am]

BILLING CODE 4310-MN-P